DEPARTMENT OF COMMERCE

National Institute of Standards and Technology

Announcement of the American Petroleum Institute's Standards Activities

AGENCY: National Institute of Standards and Technology, Commerce.

ACTION: Notice of intent to develop or revise standards and request for public comment and participation in standards development.

SUMMARY: The American Petroleum Institute (API), with the assistance of other interested parties, continues to develop standards, both national and international, in several areas. This notice lists the standardization efforts currently being conducted by API committees. The publication of this notice by the National Institute of Standards and Technology (NIST) on behalf of API is being undertaken as a public service. NIST does not necessarily endorse, approve, or recommend the standards referenced.

ADDRESSES: American Petroleum Institute, 1220 L Street, NW., Washington, DC 20005; telephone (202) 862-8000.

FOR FURTHER INFORMATION CONTACT: All contact individuals listed in the supplementary information section of this notice may be reached at the American Petroleum Institute.

SUPPLEMENTARY INFORMATION:

Background

The American Petroleum Institute develops and publishes voluntary standards for equipment, operations, and processes. These standards are used by both private industry and by governmental agencies. All interested persons should contact the appropriate source as listed for further information.

Pipeline Committee

New (1160) Pipe Integrity in High Consequence Areas (HCAs)

New (1133) Guidelines for Onshore Hydrocarbon Pipelines Crossing Floodplains

1109 Marking Liquid Petroleum Pipeline Facilities

1129 Assurance of Hazardous Liquid Pipeline System Integrity

FOR FURTHER INFORMATION CONTACT: Andrea Johnson, Standards and Training Resource Group, email: johnsona@api.org.

Committee on Marketing

New Recommended Practice on Loading and Unloading of MC 306/DOT 406 Tank Motor Vehicles

New (1582) Similarity Calculations and Software for Aviation Jet Fuel Filter/Separators

2610 Design, Construction, Operation, Maintenance, and Inspection of Terminal and Tank Facilities

1621 Bulk Liquid Stock Control at Retail Outlets

1584 Four-inch Aviation Hydrant System

1004 Bottom Loading and Vapor Recovery for MC-306 Tank Motor Vehicles

2510 Design and Construction of Liquefied Petroleum Gas Installations

1501 Recommended Practice for Retail or Consumer Aviation Fueling Facilities

1560 Lubricant Service Designations for Automotive Manual Transmissions, Manual Transaxles, and Axles

1631 Interior Lining of Underground Storage Tanks

FOR FURTHER INFORMATION CONTACT: David Soffrin, Standards and Training Resource Group, email: soffrind@api.org.

Committee on Refining

New (577) Welding Inspection and Metallurgy

New (580) Risk Based Inspection

New (621) Reconditioning of Metallic Gate, Globe, and Check Valves

New (687) Repair of Special Purpose Rotors

New (934) Materials and Fabrication Requirements for 2¼ CR & 3Cr Steel Heavy Wall Pressure Vessels for High Temperature, High Pressure Hydrogen Service

New Standard on Lightning Protection for Storage Tanks

510 Pressure Vessel Inspection Code

570 Piping Inspection Code

575 Inspection of Atmospheric & Low Pressure Storage Tanks

530 Calculation of Heater Tube Thickness in Petroleum Refineries

560 Fired Heaters for General Refinery Service

662 Plate Heat Exchanger Specification Sheets for General Refinery Service

534 Heat Recovery Steam Generator Burners for Fired heaters in General Refinery Service

599 Metal Plug Valves-Flanged and Welding Ends

603 Class 150, Cast, Corrosion-Resistant, Flanged-End Gate Valves

598 Valve Inspection and Testing

602 Compact Steel Gate Valves-Flanged, Threaded, Welding and Extended Body Ends

608 Metal Ball Valves-Flanged, Threaded, and Butt-Welding Ends

620 Design and Construction of Large, Welded, Low-Pressure Storage Tanks

650 Welded Steel Ranks for Oil Storage

653 Tank Inspection, Repair, Alteration, and Reconstruction

610 Centrifugal Pumps for Petroleum, Chemical, and Heavy Duty Chemical and Gas Industry Services

617 Centrifugal Compressors for petroleum, Chemical and Gas Industry Services

682 Shaft Sealing Systems for Centrifugal and Rotary Pumps

612 Special Purpose Steam Turbines for Petroleum, Chemical and Gas Industry Services

673 Fans

674 Positive Displacement Pumps-Reciprocating

541 Form-Wound Squirrel-Cage Induction Motors-250 Horsepower and larger

554 Process Instrument and Control

526 Flanges Steel Pressure Relief Valves

520 Sizing, Selection and Installation of Pressure-Relieving Devices in Refineries, Part II-Installation

Meetings/Conferences: The Storage Tank Management and Technology Conference will be held in Austin, Texas at the Austin Marriott Hotel from September 19 through September 21, 2000. The Fall Refining Meeting will be held October 30 through November 1, 2000, at the Wyndham Palace Hotel, Lake Buena Vista, Florida. Fitness for Service Training will be offered November 14-16, in San Antonio, Texas, at the Doubletree Hotel. Interested parties may visit the API Events calendar at http://www.api.org/events for more information regarding participation in these meetings.

FOR FURTHER INFORMATION CONTACT: David Miller, Standards and Training Resource Group, e-mail: miller@api.org.

Committee on Safety and Fire Protection

2015 Safe Entry and Cleaning of Petroleum Storage Tanks

2021 Fire Fighting In and Around Flammable and Combustible Liquid Atmosphere Storage Tank

2028 Flame Arrestors in Piping Systems

For Further Information Contact: David Soffrin, Standards and Training Resource Group, email: soffrind@api.org.

Committee on Petroleum Measurement

1.0 Vocabulary

2.2A Measurement and Calibration of Upright Cylindrical Tanks by the Manual Strapping Method

2.8A Calibration of Tanks on Ships and Oceangoing Barges

4.5 Master-Meter Provers

6.2 Loading Rack and Tank Truck Metering for Non-LPG Products

8.1 Manual Sampling of Petroleum and Petroleum Products

8.2 Automatic Sampling of Petroleum and Petroleum Products

8.3 Mixing and Handling of Liquid Samples of Petroleum and Petroleum Products

8.4 Manual Sampling and Handling of Fuels for Volatility Measurement

10.1 Determination of Sediment in Crude Oils and Fuel Oils by the Extraction Method

10.3 Determination of Water and Sediment in Crude Oil by the Centrifuge Method (Laboratory Procedure)

10.7 Standard Test Method for Water in Crude Oil by Karl Fischer Titration (Potentiometric)

New Draft Standard, On Line Water Monitoring Automatic Sampling

11.1 “C” Language and VCF Software

12.1 Calculation of Static Petroleum Quantities, Part 1, Upright Cylindrical Tanks and Marine Vessels

14.1 Collecting and Handling Natural Gas Samples for Custody Transfer

14.3 Part 1 General Equations and Uncertainty Guidelines

14.3 Part 2 Specifications and General Installation Requirements

14.3 Part 3 Natural Gas Applications

14.3 Part 4 Natural Gas Applications—Software Program

14.3 Part 4 Background, Development, Implementation Procedures and Subroutine Documentation

14.7 Mass Measurement of Natural Gas Liquid

16.2 Mass Measurement of Liquid Hydrocarbons in Vertical Cylindrical Storage Tanks by Hydrostatic Tank Gaging

17.1 Guidelines for Marine Cargo Inspection (Spanish Version)

17.2 Measurement of Cargoes on Board Tank Vessel (Spanish Version)

17.5 Guidelines for Cargo Analysis and Reconciliation

17.7 Recommended Practices for Developing Barge Control Factors (Volume Ratio)

19.1D Documentation File for API Manual of Petroleum Measurement Standards Chapter 19.1—Evaporative Loss from Fixed Roof Tanks

20.1 Allocation Measurement

New Multi-Phase Meters

New Ultrasonic Meters

New Alternative Meters

Meetings/Conferences: The Committee on Petroleum Measurement Fall Meeting will be held September 25-29, 2000, at the Wyndham Palace Hotel, Lake Buena Vista, Florida. Interested parties may visit the API Events calendar at http://www.api.org/events for more information regarding attending this meeting.

For Further Information Contact: Jon Noxon, Standards and Training Resource Group, email: noxonj@api.org.

Committee on Exploration and Production

New (2FPS) Recommended Practice on Floating Production Systems

2C Specification for Offshore Cranes

2MT1 Specification for As-Rolled Carbon Manganese Steel Plate with Improved Toughness for Offshore Structures

2N Recommended Practice for Planning, Designing and Constructing Structures and Pipelines in Arctic Conditions

2S Design of Windlass Wildcats for Floating Offshore Structure

New (2SM) Synthetic Fiber Ropes for Offshore Mooring

5B Threading, Gaging, and Thread Inspection of Casing, Tubing, and Line Pipe Threads

5CT Specification on Casing and Tubing

7 Specification for Rotary Drill Stern Elements

7K Specification for Drilling Equipment

7L Recommended Practice for Inspection, Maintenance, Repair and Remanufacture of Drilling Equipment

9A Specification for Wire Rope

10D Specification for Bow-Spring Casing Centralizers

10F Recommended Practice for Performance of Cementing Float Equipment

11AR Recommended Practice for Care and Use of Subsurface Pumps

New (11IW) Independent Wellhead

New Specification for Packers

13A Specification for Drilling Fluid Materials

14A Subsurface Safety Valve Equipment

16C Specification for Choke and Kill Systems

16D Specification for Control Systems for Drilling Well Control Equipment

17C Recommended Practice for TFL (Through Flowline) Systems

New 17K Bonded Flexible Pipe

New 17L Flexible Pipe Ancillary Equipment

New Specification for Well Perforators

14J Recommended Practice for Design and Hazard Analysis for Offshore Production Facilities

14G Recommended Practice for Fire Prevention and Control on Open Type Offshore Production Platforms

49 Recommended Practice for Analysis of Oilfield Waters

FOR FURTHER INFORMATION CONTACT: Mike Spanhel, Standards and Training Resource Group, email: spanhelm@api.org.

Dated: September 15, 2000.
Karen Brown,
Deputy Director.

[FR Doc. 00-24459 Filed 9-21-00; 8:45 am]

BILLING CODE 3510-13-M